DEPARTMENT OF ENERGY

Federal Energy Regulatory Commission

[Docket No. RP04-360-000]

Maritimes & Northeast Pipeline, LLC; Notice Of Informal Settlement Conference

September 3, 2004.

Take notice that an informal settlement conference will be starting at 10 a.m. (e.s.t.) on Thursday, September 23, 2004, at the offices of the Federal Energy Regulatory Commission, 888 First Street, NE., Washington, DC 20426, for the purpose of exploring the possible settlement in the above-referenced proceeding.

Any party, as defined by 18 CFR 385.102(c), or any participant as defined by 18 CFR 385.1012(b), is invited to attend. Persons wishing to become a party must move to intervene and received intervenor status pursuant to the Commission's regulations (18 CFR 385.214).

For additional information, please contact Arnold H. Meltz at (202) 502-8649 or arnold.meltz@ferc.gov.

Magalie R. Salas,
Secretary.

[FR Doc. E4-2151 Filed 9-9-04; 8:45 am]

BILLING CODE 6717-01-P